DEPARTMENT OF COMMERCE

National Oceanic and Atmospheric Administration

RIN: 0648-XC29

North Pacific Fishery Management Council; Public Meeting

AGENCY: National Marine Fisheries Service (NMFS), National Oceanic and Atmospheric Administration (NOAA), Commerce.

ACTION: Notice of a public committee meeting.

SUMMARY: The North Pacific Fishery Management Council's (Council) Crab Plan Team will meet in Seattle, WA.

DATES: The meeting will be held September 12-14, 2007, from 9 a.m. to 5 p.m.

ADDRESSES: The meeting will be held at Alaska Fishery Science Center, 7600 Sand Point Way NE, Building 4, Observer Training Room, Seattle, WA.

Council address: North Pacific Fishery Management Council, 605 W. 4th Ave., Suite 306, Anchorage, AK 99501-2252.

FOR FURTHER INFORMATION CONTACT: Diana Stram, North Pacific Fishery Management Council; telephone: (907) 271-2809.

SUPPLEMENTARY INFORMATION: The agenda includes the following: (1) NMFS, ADF&G Bering Sea Fishermen's Research Fund, survey results; (2) Review model and assessment results for Bristol Bay red king crab, Bering Sea snow crab; (3) Review stock assessment and fishery evaluation report (SAFE); status of stocks relative to overfishing and current harvest strategies; State annual management report; Economic section of SAFE; review and revise Executive Summary and compile SAFE; Fishery performance/harvest relative to Guideline Harvest levels and Total Allowable Catch; (4) Review of draft crab overfishing definition assessment; (5) Review Board of Fisheries proposals for March 2008 meeting; (6) Aleutian Island Fishery Ecosystem Plan overview; and (7) Other issues as needed.

Special Accommodations

This meeting is physically accessible to people with disabilities. Requests for sign language interpretation or other auxiliary aids should be directed to Gail Bendixen, (907) 271-2809, at least 5 working days prior to the meeting date.

Dated: August 24, 2007.
James P. Burgess,
Acting Director, Office of Sustainable Fisheries, National Marine Fisheries Service.

[FR Doc. E7-17086 Filed 8-28-07; 8:45 am]

BILLING CODE 3510-22-S